DEPARTMENT OF HEALTH AND HUMAN SERVICES

Administration for Children and Families

Family and Youth Services Bureau; Basic Center Program

Announcement Type: Initial.

Funding Opportunity Number: HHS-2005-ACF-ACYF-CY-0063.

CFDA Number: 93.623.

Due Date for Applications: Application is due June 20, 2005.

Executive Summary: The Family and Youth Services Bureau (FYSB) is accepting applications for the Basic Center Program (BCP). The Basic Center Program is one of the programs authorized under Part A of the Runaway and Homeless Youth (RHY) Act of 1974 to address runaway and homeless youth problems. Basic Center Programs provide an alternative to involving runaway and homeless youth in the law enforcement, child welfare, mental health, and juvenile justice systems. Each program must provide a safe and appropriate shelter and individual, family, and group counseling, as appropriate. Optional services that programs may provide are:

• Street-based services;

• Home-based services for families with youth at risk of separation from the family;

• Drug abuse education and prevention services; and

• At the request of runaway and homeless youth, testing for sexually transmitted diseases.

Each BCP is required to provide to runaway and homeless youth; temporary shelter for up to fifteen (15) days including room and board; individual, group and family counseling (as appropriate); and aftercare and referrals, as appropriate. Some programs also provide some or all of their services through host homes (usually private homes under contract to the centers) with counseling and referrals being provided. Basic Center programs shelter youth through 18 years of age.

I. Funding Opportunity Description

A. Authorizing Legislation

Grants for Runaway and Homeless Youth programs are authorized by the Runaway and Homeless Youth Act (Title III of the Juvenile Justice and Delinquency Prevention Act of 1974), as amended by the Runaway, Homeless, and Missing Children Protection Act of 2003, Public Law 108-96. Text of the 2003 amended legislation may be found at http://www.acf.hhs.gov/programs/fysb (click on Grants Programs, then click on the link for “Missing, Exploited, and Runaway Children Protection Act”).

B. Program Background, Purpose and Scope of Services

In the early 1970s, there were an alarming number of youth leaving home without parental permission, crossing State lines and, while away from home, were exposed to exploitation and other dangers of street life. In response to the widespread concern about the problem of runaway and homeless youth, Congress created a system of financial support for States through a competitive grant program as authorized by the Runaway and Homeless Youth (RHY) Act of 1974. The implementation and administration of the program was placed in the Family and Youth Services Bureau (FYSB) within the Department of Health and Human Services (HHS).

The Basic Center Program (BCP) was one of the grant programs authorized under Part A of the RHY Act of 1974 to address the runaway and homeless youth problems. The overall purpose of BCP is to provide a system of care for young runaways outside the traditional child welfare, mental health, law enforcement, or juvenile justices systems. Each program must provide a safe and appropriate shelter and individual, family, and group counseling as appropriate. Optional services that programs may provide are:

• Street-based services;

• Home-based services for families with youth at risk of separation from the family;

• Drug abuse education and prevention services; and

• At the request of runaway and homeless youth, testing for sexually transmitted diseases

While each Basic Center is slightly different, each Basic Center Program is required to provide outreach to runaway and homeless youth; temporary shelter for up to fifteen (15) days, including room and board; individual, group and family counseling (as appropriate); and aftercare and referrals, as appropriate. Some programs also provide some or all of their shelter services through host homes (usually private homes under contract to the centers) with counseling and referrals being provided. BCPs shelter youth through 18 years of age.

In fiscal year 2004, a total of $44.4 million was available for the program, which allowed FYSB to fund 345 Basic Centers.

C. Positive Youth Development

The Family and Youth Services Bureau has worked to promote a positive youth development (PYD) framework for all of its funded grant programs (including the Basic Center Programs) and activities. Therefore, applicants are encouraged, to the extent possible, to develop their project descriptions with the PYD framework in mind as discussed below.

The positive youth development approach is predicated on the understanding that all young people need support, guidance and opportunities during adolescence, a time of rapid growth and change. With this support, they can develop self-assurance and create a healthy, successful life. Key elements of positive youth development are:

• Healthy messages to adolescents about their bodies, their behaviors and their interactions;

• Safe and structured places for teens to study, recreate and socialize;

• Strengthened relationships with adult role models, such as parents, mentors, coaches or community leaders;

• Skill development in literacy, competence, work readiness and social skills; and

• Opportunities to serve others and build self-esteem.

If these factors are being addressed, young people can become not just “problem free” but “fully-prepared” and engaged constructively in their communities and society.

These key elements result in the following outcomes:

• Increased opportunities and avenues for the positive use of time;

• Increased opportunities for positive self-expression; and

• Increased opportunities for youth participation and civic engagement.

It is FYSB's hope and expectation that awareness of this PYD approach and its importance for serving youth will increase. The FYSB publications, Understanding Youth Development: Promoting Positive Pathways of Growth (http://www.ncfy.com/pubs/undyouth.htm) and Reconnecting Youth and Community: A Youth Development Approach (http://www.ncfy.com/Reconnec.htm) are widely distributed as a source document for positive youth development concepts and applications. These publications are available online from the FYSB National Clearinghouse on Families and Youth (NCFY) at http://www.ncfy.com or by phone at (301-608-8098). Additionally, a recent Statement of Principles for Positive Youth Development, endorsed by a broad range of agencies, institutions and organizations, may be found in the brochure: Toward a Blueprint for Youth: Making Positive Youth Development a National Priority. Multiple copies of this resource are available from NCFY or it can be found online at http://www.acf.hhs.gov/programs/fysb/youthdev.htm.

D. Definitions

Definitions may be found at Section 387 of the RHY Act, as amended.

Homeless Youth—The term “homeless youth” means an individual who is not more than 21 years of age, or in the case of a youth seeking shelter in a center under Part A of the Runaway and Homeless Act, not more than 18 years of age, and for the purposes of Part B not less than 16 years of age for whom it is not possible to live in a safe environment with a relative; and who has no other safe alternative living arrangement.

Street Youth—The term “street youth” means an individual who is a runaway youth; or indefinitely or intermittently a homeless youth; and spends a significant amount of time on the street or in other areas that increase the risk to such youth for sexual abuse, sexual exploitation, prostitution, or drug abuse.

Youth at Risk of Separation from the Family—The term “youth at risk of separation from the family” means an individual who is less than 18 years of age; and who has a history of running away from the family of such individual whose parent, guardian, or custodian is not willing to provide for the basic needs of such individual; or who is at risk of entering the child welfare system or juvenile justice system as a result of the lack of services available to the family to meet such needs.

Drug Abuse Education and Prevention Services—The term “drug abuse education and prevention services” means services to runaway and homeless youth to prevent or reduce the illicit use of drugs by such youth; and may include individual, family, group, and peer counseling; drop-in services; assistance to runaway and homeless youth in rural areas (including the development of community support groups); information and training relating to the illicit use of drugs by runaway and homeless youth, to individuals involved in providing services to such youth; and activities to improve the availability of local drug abuse prevention services to runaway and homeless youth.

Home-Based Services—The term “home-based services” means services provided to youth and their families for the purpose of preventing such youth from running away, or otherwise becoming separated, from their families; assisting runaway youth to return to their families; and includes services that are provided in the residences of families (to the extent practicable), including intensive individual and family counseling; and training relating to life skills and parenting.

Street-Based Services—The term “street-based services” means services provided to runaway and homeless youth and street youth in areas where they congregate. These services are designed to assist such youth in making healthy personal choices regarding where they live and how they behave; and may include identification of and outreach to runaway and homeless youth, and street youth; crisis intervention and counseling; information and referral for housing; information and referral for transitional living and health care services; advocacy, education, and prevention services related to alcohol and drug abuse; sexual exploitation; sexually transmitted diseases, including human immunodeficiency virus (HIV); and physical and sexual assault.

Transitional Living Youth Project—The term “transitional living youth project” means a project that provides shelter and services designed to promote a transition to self-sufficient living and to prevent long-term dependency on social services.

Locality—The term “locality” refers to a unit of general government. For example, a “locality” may be a city, county, township, town, parish, village, or a combination of such units. Additionally, Federally-recognized Indian tribes are eligible to apply for grants as local units of government.

Aftercare Services—The term “aftercare services” means the provision of services to runaway or otherwise homeless youth and their families subsequent to the youth's return home or the youth's placement in alternative living arrangements, which assist in alleviating the problems that contributed to his or her running away or being homeless.

Area—The term “area” means a specific neighborhood or section of the locality in which the runaway and homeless youth project is or will be located.

Coordinated Networks of Agencies—The term “coordinated networks of agencies” means an association of two or more private agencies, whose purpose is to develop or strengthen services to runaway or otherwise homeless youth and their families.

Counseling Services—The term “counseling services” means the provision of guidance, support, and advice to runaway or otherwise homeless youth and their families that is designed to alleviate the problems that contributed to the youth's running away or being homeless, resolve intra-family problems, to reunite such youth with their families, whenever appropriate, and to help them decide upon a future course of action.

Demonstrably Frequented by or Reachable—The term “demonstrably frequented by” or “reachable” means located in an area in which runaway or otherwise homeless youth congregate, or an area accessible to such youth by public transportation, or by the provision of transportation by the runaway and homeless youth project itself.

Juvenile Justice System—The term “juvenile justice system” means agencies such as, but not limited to, juvenile courts, law enforcement, probation, parole, correctional institutions, training schools, and detention facilities.

Law Enforcement Structure—The term “law enforcement structure” means any police activity or agency with legal responsibility for enforcing a criminal code including police departments and sheriffs' offices.

A Locality is a unit of general government—for example, a city, county, township, town, parish, village, or a combination of such units. Federally recognized Indian tribes are eligible to apply for grants as local units of government.

Runaway and Homeless Youth Project—The term “runaway and homeless youth project” means a locally controlled human service program facility outside the law enforcement structure and the juvenile justice system that provides temporary shelter, directly or through other facilities, counseling, and aftercare services to runaway or otherwise homeless youth.

Runaway Youth—The term “runaway youth” means a person under 18 years of age who absents himself or herself from home, or place of legal residence, without the permission of his or her family.

Short-Term Training—The term “short-term training” means the provision of local, State, or regionally based instruction to runaway or otherwise homeless youth service providers in skill areas that will directly strengthen service delivery.

State—The term “State” includes any State of the United States, the District of Columbia, the Commonwealth of Puerto Rico, the Trust Territory of the Pacific Islands, and any territory or possession of the United States.

Technical Assistance—The term “technical assistance” means the provision of expertise or support for the purpose of strengthening the capabilities of grantee organizations to deliver services.

Temporary Shelter—The term “temporary shelter” means the provision of short-term (maximum of 15 days) room and board and core crisis intervention services, on a 24-hour basis, by a runaway and homeless youth project.

II. Award Information

Funding Instrument Type: Grant.

Anticipated Total Priority Area Funding: $13,800,000.

Anticipated Number of Awards: 107.

Ceiling on Amount of Individual Awards Per Budget Period: $200,000.

Floor on Amount of Individual Awards: None.

Average Projected Award Amount: $129,000.

Length of Project Periods: 36-month project with three 12-month budget periods.

III. Eligibility Information

1. Eligible Applicants

County governments; City or township governments; Special district governments; State controlled institutions of higher education; Native American tribal governments (Federally recognized); Native American tribal organizations (other than Federally recognized tribal governments); Non-profits having a 501(c)(3) status with the IRS, other than institutions of higher education; Non-profits that do not have a 501(c)(3) status with the IRS, other than institutions of higher education; Others (See Additional Information on Eligibility below.)

Additional Information on Eligibility

Public and non-profit private entities and coordinated networks of such entities are eligible applicants under this announcement.

Faith-based and community organizations are eligible applicants under this announcement.

Current BCP grantees with project periods ending on or before September 29, 2005, and all other eligible applicants not currently receiving BCP funds may apply for a new competitive Basic Center grant under this announcement.

Current BCP grantees (including sub-grantees) with one or two years remaining in their project period may not apply for a new Basic Center grant for the community they currently serve. These grantees will receive instructions from their respective Administration for Children and Families (ACF) Runaway and Homeless Youth (RHY) Regional Office contacts on the procedures for applying for noncompetitive continuation grants. Current grantees that have questions regarding their eligibility to apply for new funds should consult with the appropriate Regional Office Youth Contact to determine if they are eligible to apply for a new grant award.

The funds available for new awards and continuations in each State and insular area are listed below in the Basic Center Program Table of Allocations by State. In this Table, the amounts shown in the “New Awards” column are the amounts available for competition under this announcement. The dollar amount available for awards in each State depends on the amount of the State's total allotment (based on the State's relative population of individuals who are less than 18 years of age) minus the amount required for non-competing continuations. Therefore, where the amount required for non-competing continuations in any State equals or exceeds the State's total allotment, it is possible that no new awards will be made in the State. However, agencies in States where zero ($ -0-) funding is reflected on the BCP Table of Allocation are highly encouraged to apply for grant funding in the event that additional funding becomes available.

All applicants under this competitive grant area will compete with other eligible applicants in the State in which they propose to deliver services.

Basic Center Program Fiscal Year 2005 Allocation by State
| Continuations | New awards | Totals
Region I:
Connecticut | 244,645 | 265,285 | 509,930
Maine | 334,371 | 0 | 334,371
Massachusetts | 495,892 | 447,996 | 943,888
New Hampshire | 190,923 | 0 | 190,923
Rhode Island | 221,382 | 0 | 221,382
Vermont | 199,992 | 0 | 199,992
Region I Total | 1,687,205 | 713,281 | 2,400,486
Region II:
New Jersey | 800,000 | 473,789 | 1,273,789
New York | 1,325,328 | 1,431,407 | 2,756,735
Puerto Rico | 144,149 | 417,514 | 561,663
Virgin Islands | 0 | 45,000 | 45,000
Region II Total | 2,269,477 | 2,367,710 | 4,637,187
Region III:
Delaware | 118,601 | 0 | 118,601
District of Columbia | 112,500 | 0 | 112,500
Maryland | 300,000 | 502,305 | 802,305
Pennsylvania | 1,307,385 | 523,718 | 1,831,103
Virginia | 445,000 | 632,767 | 1,077,767
West Virginia | 251,254 | 19,680 | 270,934
Region III Total | 2,534,740 | 1,678,470 | 4,213,210
Region IV:
Alabama | 653,305 | 21,636 | 674,941
Florida | 1,705,646 | 810,104 | 2,515,750
Georgia | 907,066 | 378,453 | 1,285,519
Kentucky | 550,000 | 65,242 | 615,242
Mississippi | 97,299 | 319,483 | 416,782
North Carolina | 976,521 | 272,620 | 1,249,141
South Carolina | 440,779 | 173,450 | 614,229
Tennessee | 435,000 | 421,351 | 856,351
Region IV Total | 5,765,616 | 2,462,339 | 8,227,955
Region V:
Illinois | 1,594,832 | 291,184 | 1,886,016
Indiana | 531,398 | 380,171 | 911,569
Michigan | 1,073,564 | 419,475 | 1,493,039
Minnesota | 391,247 | 351,106 | 742,353
Ohio | 1,335,219 | 364,232 | 1,699,451
Wisconsin | 779,372 | 40,551 | 819,923
Region V Total | 5,705,632 | 1,846,719 | 7,552,351
Region VI:
Arkansas | 412,070 | 0 | 412,070
Louisiana | 528,222 | 140,123 | 668,345
New Mexico | 183,151 | 93,728 | 276,879
Oklahoma | 457,900 | 66,225 | 524,125
Texas | 1,860,823 | 1,391,757 | 3,252,580
Region VI Total | 3,442,166 | 1,691,833 | 5,133,999
Region VII:
Iowa | 381,022 | 58,266 | 439,288
Kansas | 300,737 | 103,175 | 403,912
Missouri | 473,000 | 365,528 | 838,528
Nebraska | 158,475 | 97,871 | 256,346
Region VII Total | 1,313,234 | 624,840 | 1,938,074
Region VIII:
Colorado | 368,288 | 300,207 | 668,495
Montana | 144,106 | 0 | 144,106
North Dakota | 158,910 | 0 | 158,910
South Dakota | 100,000 | 0 | 100,000
Utah | 0 | 350,660 | 350,660
Wyoming | 118,000 | 0 | 118,000
Region VIII Total | 889,304 | 650,867 | 1,540,171
Region IX:
American Samoa | 0 | 45,000 | 45,000
Arizona | 507,725 | 314,768 | 822,493
California | 3,998,388 | 1,267,985 | 5,266,373
Guam | 0 | 45,000 | 45,000
Hawaii | 174,214 | 0 | 174,214
Northern Marianas |  | 45,000 | 45,000
Nevada | 295,710 | 38,966 | 334,676
Region IX Total | 4,976,037 | 1,756,719 | 6,732,756
Region X:
Alaska | 224,000 | 0 | 224,000
Idaho | 224,955 | 0 | 224,955
Oregon | 473,431 | 58,310 | 531,741
Washington | 607,515 | 298,500 | 906,015
Region X Total | 1,529,901 | 356,810 | 1,886,711
FY 2005 BCP Total | 30,113,312 | 14,149,588 | 44,262,900

Note: Agencies in States where zero ($ -0-) funding is reflected on the BCP Table of Allocations are highly encouraged to apply for grant funding in case additional funds become available.

2. Cost Sharing/Matching

Yes.

Matching/Cost-Sharing

Grantees are required to meet a non-Federal share of the project costs, in accordance with Pub. L. 108-96, section 83(a). Grantees must provide at least 10 percent of the total approved cost of the project. The total approved cost of the project is the sum of the ACF share and the non-Federal share. The non-Federal share may be met by cash or in-kind contributions, although applicants are encouraged to meet their match requirements through cash contributions. For example, in order to meet the match requirements, a project with a total approved cost of $666,670, requesting $600,000 (based on an award of $200,000 per budget period) in ACF funds, must provide a non-Federal share of at least $66,667 (10 percent of total approved project cost of $666,670). Grantees will be held accountable for commitments of non-Federal resources even if over the amount of the required match. Failure to provide the amount will result in disallowance of Federal funds. Lack of supporting documentation at the time of application will not impact the responsiveness of the application for competitive review.

3. Other

All applicants must have a Dun & Bradstreet number. On June 27, 2003, the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status. Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

Disqualification Factors

Applications that exceed the ceiling amount will be considered non-responsive and will not be considered for funding under this announcement.

Any application that fails to satisfy the deadline requirements referenced in Section IV.3 will be considered non-responsive and will not be considered for funding under this announcement.

IV. Application and Submission Information

1. Address To Request Application Package

ACYF Operations Center, c/o The Dixon Group, Attn: Basic Center Program Funding, 118 Q Street, NE., Washington, DC 20002-2132. Phone: 866-796-1591. E-mail: fysb@dixongroup.com.

2. Content and Form of Application Submission

Each application package must include an original and two copies. Do not staple the application or any section of the application.

The length of the entire application package must not exceed 80 pages. This includes the required Federal forms/certifications (SF-424, SF-424A, SF-424B and SF-LLL), table of contents, project summary, project description, budget/budget justification, supplemental documentation, proof of non-profit status, summaries of sub-grants and contracts, and letters of support or agreement. All pages of the application package must be sequentially numbered beginning with page one. The required Federal forms will be counted towards the total number of pages. All pages of each application will be counted to determine the total length. All pages exceeding the 80 page limit will be removed and will not be considered in the reviewing process. A cover letter is not required. Applicants are reminded that if a cover letter is submitted, it will count towards the 80 page limit.

The project description must be typed and double-spaced on a single-side of 8½ x 11 plain white paper with at least ½ inch margins on all sides, using black print with 12 pitch or 12 point size Times New Roman font. For charts, budget tables, supplemental letters, and support documents, applicants may use a different pitch size and font but no less than 10 pitch size and single-spaced.

Additional Application Guidance—If more than one agency is involved in submitting a single application, one entity must be identified as the applicant organization that will have legal responsibility for the grant. Follow the additional guidance below to complete the SF-424:

• Item 6: Insure the accuracy of Employer Identification Number (EIN). This number is provided to an organization by the Internal Revenue Service (IRS).

• Item 10: Clearly state the Catalog of Federal Domestic Assistance (CFDA) number (93.623) and title of the program (Basic Center Program).

• Item 13: Proposed Project Start Date is 09/30/2005; End Date is 09/29/2008.

• Item 14: Include the Congressional District where the applicant is located in 14a and other district(s) affected by the project in 14b. An applicant may insure the accuracy of its district(s) via the following website address: http://www.house.gov/writerep/. Once in the site: select your State, enter your zip code, including the 4-digit zip code extension, and then click “contact my representative”. This will take you to a page where the correct Congressional District is listed.

• Item 15: The Estimated Funding should reflect only the budgeted amount for a 12-month budget period. Assume that if the application is awarded a grant in this cycle that future funding based on non-competitive continuation grants will remain at this level based on the availability of funds.

Table of Contents—Should reference the order of the application sections and provide page numbers.

One Page Project Summary/Abstract—An abstract should describe the project and reference the funding request. Clearly mark this page with the applicant name as shown on item 5 of the SF-424 and the services area as shown in item 12 of the SF-424. Also, include the applicant's telephone number and E-mail address. The summary description is limited to one page and can be single or double-spaced. Care should be taken to produce a summary which accurately and concisely reflects the proposed project. The summary should describe the goals and objectives and the results and benefits expected.

Project Description—Should provide a broad overview of the project and of what the project intends to achieve; address each of the categories in Section V.1; be structured in a manner that addresses each of the evaluation criteria (Objectives and Need for Assistance, Results and Benefits, Approach, Staff and Position Data, Organizational Profiles, and Budget and Budget Justification); and respond to the evaluation criteria in Section V.1.

Budget and Budget Justification—The budget detail must be in a worksheet, table, or spreadsheet format and should reflect a 12-month budget period. Each category within the budget should correspond with the budget categories' titles listed in Section B of form SF-424A under Budget and Budget Justification and should include a description of each line item within the category and the calculations derived. The budget justification must be in a narrative format. The budget justification must provide a rationale for the items requested and how these items relate to the overall success of the project.

Proof of Non-Profit Status—See Section III.3 for acceptable documentation that must be submitted by date of award.

Summary of Sub-grants/Contracts—A summary of a monetary sub-grant and/or contract must be provided as part of the application package. The summary must include a description of the project services that will be completed through the sub-grant or contract using Federal funds.

Letters of Agreement—Letters of agreement are required if the applicant is proposing to provide services that will be provided by a different agency or entity based on a non-monetary arrangement. The letter of agreement must enumerate the project services that will be completed under the agreement.

Letters of Support—Letters from community, public, and commercial leaders and organizations that support funding for the proposed project.

Non-Federal Resources Commitment Letters—Letters from organizations, entities, or individuals agreeing to provide non-Federal resources (cash or in-kind) to the project.

You may submit your application to us in either electronic or paper format.

To submit an application electronically, please use the www.Grants.gov/Apply site. If you use Grants.gov, you will be able to download a copy of the application package, complete it off-line, and then upload and submit the application via the Grants.gov site. ACF will not accept grant applications via email or facsimile transmission.

Please note the following if you plan to submit your application electronically via Grants.gov

• Electronic submission is voluntary, but strongly recommended.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF-424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

Applicants that are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

Standard Forms and Certifications

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with the forms. By signing and submitting the application, applicants are providing the certification and need not mail back the certification with the application.

Applicants seeking to provide drug abuse education and prevention services must also understand that they will be held accountable for conducting outreach activities for runaway and homeless youth. (See 42 U.S.C. 5712(e)(2)) By signing and submitting the application, applicants are providing this certification and need not mail back a separate certification with the application.

Applicants must make the appropriate certification of their compliance with all Federal statutes relating to nondiscrimination. By signing and submitting the applications, applicants are providing the certification and need not mail back the certification form. Complete the standard forms and the associated certifications and assurances based on the instructions on the forms. The forms and certifications may be found at: www.acf.hhs.gov/programs/ofs/forms.htm.

Please see Section V.1. Criteria, for instructions on preparing the full project description.

3. Submission Dates and Times

Due Date for Applications: June 20, 2005.

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Receipt acknowledgement for application packages will be provided to applicants who submit their package via mail, courier services, or by hand delivery. Applicants will receive an electronic acknowledgement for applications that are submitted via http://www.Grants.gov.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Checklist

You may use the checklist below as a guide when preparing your application package.

What to submit | Required content | Required form or format | When to submit
Table of Contents | See Sections IV | Found in Section IV | By application due date.
Project Abstract | See Sections IV. and V | Found in Sections IV. and V | By application due date.
Project Description | See Section IV. and V | Found in Sections IV. and V | By application due date.
SF-424 | See Section IV | Found at: http://www.acf.hhs.gov/programs/ofs/forms.htm | By application due date.
SF-424A | See Section IV | Found at: http://www.acf.hhs.gov/programs/ofs/forms.htm | By application due date.
Budget and Budget Justification | See Sections IV. and V | Found in Sections IV. and V | By application due date.
SF-424B | See Section IV | Found at: http://www.acf.hhs.gov/programs/ofs/forms.htm | By application due date.
Proof of Non-Profit Status | See Section III | Found in Section III | By date of award.
SF-LLL Certification Regarding Lobbying | See Section IV | Found at: http://www.acf.hhs.gov/programs/ofs/forms.htm | By date of award.
Letters of Support | See Sections IV. and V | Found in Sections IV. and V | By application due date.
Non-Federal Resources Commitment Letters | See Section IV | Format described in Section IV | By application due date.
Letters of Agreement | See Section IV | Format described in Section IV | By application due date.
Summary of sub-grant and/or contract | See Section IV | Format described in Section IV | By application due date.

Additional Forms

Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

What to submit | Required content | Location | When to submit
Survey for Private, Non-Profit Grant Applicants | See form | May be found at: www.acf.hhs.gov/programs/ofs/forms.htm | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a.

Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

5. Funding Restrictions

Grant awards will not allow reimbursement of pre-award costs.

Construction of a facility is not an allowable activity or expenditure under this program. However, it is permissible to use grant funds to renovate existing structures as described in program regulations at 45 CFR 1351.15.

No grant funds may be used for any program of distributing sterile needles or syringes for the hypodermic injection of any illegal drug. (42 U.S.C. 5752) [See Section VI.3. Special Terms and Conditions of Awards.]

A minimum of $100,000 will be allotted to each State, the District of Columbia and Puerto Rico. A minimum of $45,000 will be awarded to each of the four insular areas: Guam, American Samoa, the Commonwealth of the Northern Marianas and the Virgin Islands.

6. Other Submission Requirements

Submission by Mail: An applicant must provide an original application with all attachments, signed by an authorized representative and two copies. The application must be received at the address below by 4:30 p.m. eastern time on or before the closing date. Applications should be mailed to: c/o The Dixon Group, Attn: Basic Center Program Funding, 118 Q Street, NE., Washington, DC 20002-2132, Attention: ACYF Operations Center.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: c/o The Dixon Group, Attn: Basic Center Program Funding, 118 Q Street, NE., Washington, DC 20002-2132, Attention: ACYF Operations Center.

Electronic Submission: www.Grants.gov. Please see section IV. 2 Content and Form of Application Submission, for guidelines and requirements when submitting applications electronically.

V. Application Review Information

The Paperwork Reduction Act of 1995 (Pub. L. 104-13)

Public reporting burden for this collection of information is estimated to average 20 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Expectations and Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identify the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, the project description may cite measurable outcomes, including but not limited to, the number of youth returning home for reunification with family or returning to a safe and appropriate alternative living arrangement.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Geographic Location

Describe the precise location of the project and boundaries of the area to be served by the proposed project. Maps or other graphic aids may be attached.

Staff and Position Data

Provide a biographical sketch and job description for each key person appointed. Job descriptions for each vacant key position should be included as well. As new key staff is appointed, biographical sketches will also be required.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non-Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Non-Federal Resources

Description: Amounts of non-Federal resources that will be used to support the project as identified in Block 15 of the SF-424.

Justification: The firm commitment of these resources must be documented and submitted with the application so the applicant is given credit in the review process. A detailed budget must be prepared for each funding source.

Evaluation Criteria: The following evaluation criteria appear in weighted descending order. The corresponding score values indicate the relative importance that ACF places on each evaluation criterion; however, applicants need not develop their applications precisely according to the order presented. Application components may be organized such that a reviewer will be able to follow a seamless and logical flow of information (e.g. from a broad overview of the project to more detailed information about how it will be conducted).

In considering how applicants will carry out the responsibilities addressed under this announcement, competing applications for financial assistance will be reviewed and evaluated against the following criteria:

Approach (35 Points)

1. The extent to which the application describes how the Basic Center will operate programmatically and administratively and meet the needs of runaway and homeless youth and their families providing the scope of services required by the authorizing RHY legislation and program administration requirements.

2. The extent to which the application describes the delivery of counseling services to youth that encourages, to the extent possible, the involvement of parents or legal guardians in the counseling.

3. The extent to which the application describes the delivery of aftercare services to youth and ensures that services will be provided to all youth, including those who are returned to a home or domicile that is beyond the State in which the runaway and homeless youth center is located.

4. The extent to which the application states the expected or estimated ratio of staff to youth in a BCP center and explains how this ratio will be sufficient to ensure adequate supervision and treatment of youth accessing services.

5. The extent to which the application describes plans for conducting an outreach program that, where applicable, will attract members of ethnic, cultural, and racial minorities and/or persons with limited ability to speak English. As such, the application should describe the strategies and activities for encouraging awareness of and sensitivity to the diverse needs of runaway and homeless youth who are persons of low English proficiency, or represent particular ethnic and racial backgrounds.

6. If the application proposes to serve a specific RHY population (e.g. single-sex programs, gay and lesbian youth, or a particular ethnic group, etc.) then the application will be evaluated on the extent to which the applicant describes plans for providing focused services to meet the special needs of this population and how the applicant will make referrals or otherwise provide for the needs of RHY youth who are not in the specific population the applicant will serve.

7. The extent to which the application describes plans for ensuring coordination with schools to which runaway and homeless youth will return and for assisting the youth to stay current with the curricula of these schools. Specific information on how the applicant will work with the McKinney-Vento School District Liaison (as designated by the State Coordinator) to assure that runaway and homeless youth are provided information about the educational services available to such youth under 42 U.S.C. 11431 through 11435. A list of McKinney-Vento State Coordinators can be found at www.serve.org/nche/downloads/sccontact.pdf.

8. The extent to which the application describes procedures for dealing with youth who have run away from foster care placements and from correctional institutions and must show that procedures are in accordance with Federal, State and local laws.

9. The extent to which the application describes procedures for maintaining confidentiality of records on the youth and families served. Procedures must insure that no information on the youth and families is disclosed without the consent of the individual youth, parent or legal guardian. Note: Disclosures without consent made to another agency compiling statistical records or to a government agency involved in the disposition of criminal charges against an individual youth may be permissible if individually identifiable information is not provided, and if such disclosures are consistent with applicable State, local, or other Federal laws.

10. If the applicant proposes to provide optional home-based services, then the application will be evaluated on the extent to which it provides a description of:

• The nature of counseling and information provided to youth and the families (including unrelated individuals in the family households) of such youth, including services relating to basic life skills, interpersonal skill building, educational advancement, job attainment skills, mental and physical health care, parenting skills, financial planning, and referral to sources of other needed services;

• How the center will provide directly, or through an arrangement made by the center, 7-day, 24-hour service to respond to family crises (including immediate access to temporary shelter for runaway and homeless youth and youth at risk of separation from the family);

• The objectives and measures of success to be achieved in partnership with the families of runaway and homeless youth and youth at risk of separation from the family, as a result of receiving home-based services;

• Initial and ongoing training for staff who provide home-based services;

• How caseloads will remain sufficiently low to allow for intensive involvement (i.e., 5 to 20 hours per week) with each family receiving such services and how staff providing such services will receive qualified supervision.

11. If the applicant proposes to provide optional drug abuse education and prevention services, then the application will be evaluated on the extent to which it provides a description of:

• The types of such services that the applicant proposes to provide;

• The objectives of such services;

• The types of information and training to be provided to individuals providing such services to runaway and homeless youth; and,

• How outreach activities for runaway and homeless youth will be conducted.

12. If the applicant proposes to provide optional street-based services, then the application will be evaluated on the extent to which it provides a description of:

• Staff supervision, including on-street supervision by appropriately trained staff;

• Backup personnel for on-street staff;

• Initial and ongoing training for staff who provide such services; and

• How outreach activities for runaway and homeless youth and street youth will be conducted.

Results or Benefits Expected (20 Points)

1. The extent to which the application describes specific measurable outcomes and how they will be achieved.

2. The extent to which the application describes the anticipated changes in attitudes, values, and behavior of the youth served and improvements in individual and family functioning that will result from services provided.

Objectives and Need for Assistance (15 Points)

1. The extent to which the application describes the goals and objectives of the proposed Basic Center project and how implementation will fulfill the purpose and provide the scope services stated in Part A of the RHY legislation as described in the “Background, Purpose and Scope of Services” in Section I.

2. The extent to which the application describes the need for assistance by describing the general conditions of youth and families in the area to be served and the estimated number and characteristics of runaway and homeless youth and their families in the vicinity. The extent to which the discussion includes matters of family functioning and the health, education, employment, and social conditions of the youth in the service area, including at-risk conditions or behaviors such as drug use, school failure, and delinquency.

3. The extent to which the application describes the existing support systems for youth at risk of separation from the family and homeless youth in the area, with specific references to law enforcement, health and mental health care, social services, schools and child welfare. In addition, the extent to which the applicant identifies other agencies providing shelter and services to runaway and homeless youth in the area and gaps in service between such agencies. Supporting documentation of need from other community groups may be included.

4. The extent to which the application describes the area to be served, states the precise location(s) of program services, and demonstrates that the services will be located in an area which is frequented by and/or easily accessible by runaway and homeless youth.

5. The extent to which the application specifies the annual number of qualifying runaway and homeless youth (RHY) and their families expected to be directly served (i.e., sheltered and counseled) by the BCP. The extent to which the application provides the number of beds available for runaway and homeless youth. (This number is restricted to a minimum of 4 RHY youth and a maximum shelter capacity of 20 youth unless the applicant is required by State or local law or regulations to meet a higher maximum to comply with licensure requirements for child and youth serving facilities; proof is required for this exception.)

Staff and Position Data (10 Points)

1. The extent to which the application describes key staff (including key staff, consultants, and volunteers) skills, knowledge, and experience as it relates to working with RHY generally and BCP specifically.

2. The extent to which the application provides for key staff, biographical sketches or resumes, and position descriptions that are consistent with those described in the narrative budget justification. Resumes must indicate what positions staff will fill; and position descriptions must specifically describe each job as it relates to the proposed project.

3. The extent to which the application describes the cultural competencies of staff and how that competency relates to the youth being served.

4. The extent to which the application describes a plan for training project staff as well as staff of cooperating organizations and individuals. Training should include at a minimum: organizational policies and procedures, job responsibilities, and subject matter knowledge of issues pertaining to runaway and homeless youth and at-risk youth, such as positive youth development.

Budget and Budget Justification (10 Points)

1. The extent to which the application provides a detailed line item budget and narrative budget justification for requested Federal and non-Federal funds to implement the full scope of services and related activities for the first year (12-months) of the project. The Budget Categories described, must be the same as the categories listed on the SF-424A, Section B: Personnel, fringe benefits, travel, equipment, supplies, contractual, other, total direct charges, indirect charges, and total budget. The non-Federal share, as appropriate, must be reflected among the same categories in a separate column.

2. The extent to which the application describes how each category of costs are derived, i.e., detailed calculations that include estimation methods, quantities, unit costs, etc., that equate to the total costs proposed in a particular category (e.g., travel costs should be broken down into hotel costs, per diem rates, airfare, etc.).

3. The extent to which the applicant has appropriately allocated funds toward the purchase of necessary computer equipment in order to comply with the special requirements of statistical record keeping through RHYMIS (Runaway and Homeless Youth Management information System). (See Section VI.2. Administrative and National Policy Requirements.)

4. The extent to which the application describes fiscal controls (including accounting procedures and audit requirements) to ensure prudent use, proper disbursement, and accurate accounting of Federal funds received as well as accounting for non-Federal resources.

Organizational Profiles (10 Points)

1. The extent to which the application describes the organization's past experience in working with runaway, homeless, and street youth populations. Experience does not have to pertain only to past FYSB funded program experience. Note: Past experience means that a major activity of the agency has been the provision of temporary shelter, counseling, and referral services to runaway or otherwise homeless youth and their families, either directly or through linkages established with other community agencies.

2. The extent to which the application describes the role of other organizations or multiple sites of the agency that will be involved in direct services (through monetary or non-monetary arrangements) to runaway and homeless youth through this grant. The application should list all of these sites and include addresses, phone numbers and staff contact names if different from the address and contact on the SF-424. Letters of agreement and an Organizational Chart are required.

3. If the agency is a current recipient of funds from the Administration for Children and Families for services to runaway and homeless youth for programs other than those applied for in this application, the application will be evaluated on the extent to which it shows how the services supported by these funds are, or will be, integrated with the existing services.

4. The extent to which the application provides a plan for project continuance beyond grant support, including a plan for securing resources and continuing project activities after Federal assistance has ceased. A listing of the applicant's other funding sources must be included. The extent to which the application either describes how the activities implemented under this project will be continued by the agency once Federal funding for the project has ended or describes specific plans for accomplishing program phase-out in the event the applicant cannot obtain new operating funds at the end of the 36-month project period. Availability of funds is not guaranteed.

5. The extent to which the application includes letters of support from community, public, and commercial leaders and organizations that support the proposed project for funding.

2. Review and Selection Process

No grant award will be made under this announcement on the basis of an incomplete application.

Applications will be reviewed and scored competitively. This review will be conducted in Washington, DC, by a panel of experts in the field, generally persons from outside the Federal Government. The review panels will use the evaluation criteria listed in Section V.1. of this announcement to review and score the applications. In addition, the panels will assign a score (maximum score 100) to each application. The panels will identify the application's strengths and weaknesses based on the application's responsiveness to the evaluation criteria. The results (scores) of this review will be a primary factor in making funding decisions. Each application in the funding range will be subject to an administrative review by the ACF Central and Regional Offices after the panel review process. ACF may consider a variety of factors in addition to the review criteria identified above, including geographic location, relative needs for services, types of applicant organizations, and comments solicited from the ACF regional offices, in order to ensure that the interests of the Federal Government are met in making the final selections.

As required by the RHY Act, in making grant award decisions, priority for funding shall be given to private entities with past experience in providing services to runaway, homeless and street youth. Past experience means that a major activity of the agency has been the provision of temporary shelter, counseling, and referral services to runaway or otherwise homeless youth and their families, either directly or through linkages established with other community agencies.

Since ACF will be using non-Federal reviewers in the process, applicants have the option of omitting from the application copies (not the original) specific salary rates or amounts for individuals specified in the application budget and Social Security Numbers, if otherwise required for individuals. The copies may include summary salary information.

Approved but Unfunded Applications

Applications that are approved but unfunded may be held over for funding in the next funding cycle, pending the availability of funds, for a period not to exceed one year.

3. Anticipated Announcement and Award Dates

Awards will be made by September 30, 2005. Unsuccessful applicants will be notified in writing after the final awards have been made.

VI. Award Administration Information

1. Award Notices

The successful applicants will be notified through the issuance of a Financial Assistance Award document which sets forth the amount of funds granted, the terms and conditions of the grant, the effective date of the grant, the budget period for which initial support will be given, the non-Federal share to be provided, (if applicable), and the total project period for which support is contemplated. The Financial Assistance Award will be signed by the Grants Officer and transmitted via postal mail.

Organizations whose applications will not be funded will be notified in writing.

2. Administrative and National Policy Requirements

Grantees are subject to the requirements in 45 CFR Part 74 (non-governmental) and 45 CFR Part 92 (governmental).

Runaway and Homeless Youth Program Administration Requirements (45 CFR, Part 1351)

Direct Federal grants, subaward funds, or contracts under this ACF Program shall not be used to support inherently religious activities such as religious instruction, worship, or proselytization. Therefore, organizations must take steps to separate, in time or location, their inherently religious activities from the services funded under this Program. Regulations pertaining to the prohibition of Federal funds for inherently religious activities can be found on the HHS Web site at http://www.os.dhhs.gov/fbci/waisgate21.pdf.

Applicants are advised that no grant funds may be used for any program of distributing sterile needles or syringes for the hypodermic injection of any illegal drug. Prospective grantees are advised that entities which receive Basic Center Program (BCP) grant funds and which operate a program of distributing sterile needles or syringes for hypodermic injections of illegal drugs must account for all funds used for such programs separately from any expenditure of BCP grant funds. (42 U.S.C. 5752.) See Section IV.5. Funding Restrictions.

Runaway and Homeless Youth Management Information System (RHYMIS)

RHYMIS (Runaway and Homeless Youth Management information System)—Grantees must agree to keep adequate statistical records profiling the youth and families served under the Federal grant and to gather and submit program and client data required by FYSB. This information is required by the RHY program legislation and defined in user-friendly Runaway and Homeless Youth Management Information System (RHYMIS or RHYMIS-LITE). Recipients of a grant administered through the Family and Youth Services Bureau (FYSB) are required and expected to submit the data via RHYMIS or in an approved format which RHYMIS can receive. Grantees have the option of using RHYMIS for internal management improvement or for research and other program needs. A RHYMIS hotline/help desk is available at 888-749-6474, and/or at rhymis_help@csc.com.

The Family and Youth Services Bureau will fund computer software for RHY program data collection through RHYMIS. An applicant lacking the computer equipment (hardware) for RHYMIS data collection must include an estimated cost for such equipment in their proposed budget. If the applicant already has such equipment, this fact must be noted. (See Section V.1. Evaluation Criteria/Budget and Budget Justification.) (Note: Existing grantees generally report that their staff has been able to easily train themselves to operate RHYMIS due to its user-friendliness, prompts, help features, and FYSB's technical support service.)

In accordance with the Paperwork Reduction Act of 1995 (Pub. L. 104-13) the data collection under RHYMIS is approved under OMB control number 0970-0123, which expires September 30, 2007.

3. Reporting Requirements

Program Progress Reports: Semi-Annual.

Financial Reports: Semi-Annual.

Grantees will be required to submit program progress and financial reports (SF 269) throughout the project period. Program progress and financial reports are due 30 days after the reporting period. In addition, final programmatic and financial reports are due 90 days after the close of the project period.

VII. Agency Contacts

Program Office Contact

Dorothy W. Pittard, Family and Youth Services Bureau, c/o ACYF Operations Center, 118 Q Street, NE, Washington, DC 20002-2132. Phone: 866-796-1591. E-mail: fysb@dixongroup.com.

Grants Management Office Contact

Peter Thompson, ACYF Grants Officer, Family and Youth Services Bureau, c/o ACYF Operations Center, 118 Q Street, NE, Washington, DC 20002-2132. Phone: 866-796-1591. E-mail: fysb@dixongroup.com.

VIII. Other Information

Please reference Section IV.3 for details about acknowledgement of received applications.

Notice: Beginning with FY 2006, the Administration for Children and Families (ACF) will no longer publish grant announcements in the Federal Register. Beginning October 1, 2005, applicants will be able to find a synopsis of all ACF grant opportunities and apply electronically for opportunities via: www.Grants.gov. Applicants will also be able to find the complete text of all ACF grant announcements on the ACF Web site located at: http://www.acf.hhs.gov/grants/index.html.

Dated: April 28, 2005.
Joan E. Ohl,
Commissioner, Administration on Children, Youth and Families.

[FR Doc. 05-8893 Filed 5-3-05; 8:45 am]

BILLING CODE 4184-01-P